DEPARTMENT OF EDUCATION

Recognition of Accrediting Agencies, State Agencies for the Approval of Public Postsecondary Vocational Education, and State Agencies for the Approval of Nurse Education

AGENCY: National Advisory Committee on Institutional Quality and Integrity, Department of Education (The Advisory Committee).

What Is the Purpose of This Notice?

The purpose of this notice is to invite written comments on accrediting agencies whose applications to the Secretary for initial or renewed recognition or request for an expansion of scope will be reviewed at the Advisory Committee meeting to be held on December 10-11, 2001.

Where Should I Submit My Comments?

Please submit your written comments by August 27, 2001 to Carol Griffiths, Chief, Accrediting Agency Evaluation, Accreditation and State Liaison. You may contact her at the U.S. Department of Education, 1990 K Street, NW., 7th Floor, Room 7105, Washington, DC 20006-8509, telephone: (202) 219-7011. Individuals who use a telecommunications device for the deaf (TDD) may call the Federal Information Relay Service at 1-800-877-8339.

What Is the Authority for the Advisory Committee?

The National Advisory Committee on Institutional Quality and Integrity is established under section 114 of the Higher Education Act (HEA), as amended, 20 U.S.C. 1011c. One of the purposes of the Advisory Committee is to advise the Secretary of Education on the recognition of accrediting agencies and State approval agencies.

Will This Be My Only Opportunity To Submit Written Comments?

Yes, this notice announces the only opportunity you will have to submit written comments. However, a subsequent Federal Register notice will announce the meeting and invite individuals and/or groups to submit requests to make oral presentations before the Advisory Committee on the agencies that the Committee will review. That notice, however, does not offer a second opportunity to submit written comment.

What Happens to the Comments That I Submit?

We will review your comments, in response to this notice, as part of our evaluation of the agencies' compliance with the Secretary's Criteria for Recognition of Accrediting Agencies. The Criteria are regulations found in 34 CFR part 602 (for accrediting agencies) and in 34 CFR part 603 (for State approval agencies).

We will also include your comments in the staff analyses we present to the Advisory Committee at its December 2001 meeting. Therefore, in order for us to give full consideration to your comments, it is important that we receive them by August 27, 2001. In all instances, your comments about agencies seeking initial or continued recognition or request for an expansion of scope must relate to the Criteria for Recognition. In addition, your comments for any agency whose interim report is scheduled for review must relate to the issues raised and the Criteria for Recognition cited in the Secretary's letter that requested the interim report.

What Happens to Comments Received After the Deadline?

We will review any comments received after the deadline. If such comments, upon investigation, reveal that the accrediting agency is not acting in accordance with the Criteria for Recognition, we will take action either before or after the meeting, as appropriate.

What Agencies Are on the Agenda for the Meeting?

The Secretary of Education recognizes accrediting agencies and State approval agencies for public postsecondary vocational education and nurse education if the Secretary determines that they meet the Criteria for Recognition. Recognition means that the Secretary considers the agency to be a reliable authority as to the quality of education offered by institutions or programs that are encompassed within the scope of recognition he grants to the agency. The following agencies will be reviewed during the December 2001 meeting of the Advisory Committee:

Nationally Recognized Accrediting Agencies

Petition for Initial Recognition

1. Commission on Massage Therapy Accreditation (Requested scope of recognition: the accreditation of institutions and programs that award postsecondary certificates, diplomas, and degrees in the practice of massage therapy.)

Petitions for Renewal of Recognition

1. Accrediting Association of Bible Colleges, Commission on Accreditation (Current scope of recognition: The accreditation and preaccreditation (“Candidate for Accreditation”) of Bible colleges and institutes offering undergraduate programs.)

2. American Academy for Liberal Education (Current scope of recognition: The accreditation and preaccreditation (“Candidate for Accreditation”) of institutions of higher education and programs within institutions of higher education that offer liberal arts degrees at the baccalaureate level or a documented equivalency.)

3. American Physical Therapy Association, Commission on Accreditation in Physical Therapy Education (Current scope of recognition: The accreditation and preaccreditation (“Candidate for Accreditation” status) of programs for the preparation of physical therapists and physical therapist assistants. Requested scope of recognition: The accreditation and preaccreditation (“Candidate for Accreditation”) of physical therapist education programs leading to the first professional degree at the master's or doctoral level and physical therapist assistant education programs at the associate degree level, including the use of distance education.)

4. American Veterinary Medical Association, Council on Education (Current scope of recognition: The accreditation and preaccreditation (“Reasonable Assurance”) of programs leading to professional degrees (D.V.M. or D.M.V.) in veterinary medicine.)

5. Association for Clinical Pastoral Education, Inc., Accreditation Commission (Current scope of recognition: The accreditation of clinical pastoral education (CPE) centers and CPE and supervisory CPE programs.)

6. Commission on Collegiate Nursing Education (Current scope of recognition: The accreditation of nursing education programs at the baccalaureate and graduate degree levels.)

7. Distance Education and Training Council, Accrediting Commission (Current scope of recognition: The accreditation of private and non-private distance education institutions offering non-degree and associate, baccalaureate, and master's degree programs primarily through the distance learning method. Requested scope of recognition: The accreditation of private and non-private distance education institutions offering non-degree and associate, baccalaureate, master's, and first professional degree programs primarily through the distance learning method.)

8. National League for Nursing Accrediting Commission (Current scope of recognition: The accreditation of programs in practical nursing, and diploma, associate, baccalaureate and higher degree nurse education programs.)

Petition for an Expansion of Scope

1. Accrediting Council for Continuing Education and Training (Current scope of recognition: The accreditation of institutions of higher education that offer non-collegiate continuing education programs. Requested scope of recognition: The accreditation of institutions of higher education that offer non-collegiate continuing education programs and occupational associate degrees (Associate in Occupational Studies (A.O.S) and Associate in Applied Science (A.A.S.))

Where Can I Inspect Petitions and Third-Party Comments Before and After the Meeting?

All petitions and those third-party comments received in advance of the meeting, will be available for public inspection and copying at the U.S. Department of Education, 1990 K Street, NW., 7th Floor, Room 7105, Washington, DC 20006-8509, telephone (202) 219-7011 between the hours of 8:00 a.m. and 3:00 p.m., Monday through Friday, until November 16, 2001. They will be available again after the December 10-11 Advisory Committee meeting. An appointment must be made in advance of such inspection or copying.

Authority: 5 U.S.C. Appendix 2.

Dated: June 27, 2001.
Maureen A. McLaughlin,
Deputy Assistant Secretary for Policy, Planning, and Innovation, Office of Postsecondary Education.

[FR Doc. 01-17536 Filed 7-12-01; 8:45 am]

BILLING CODE 4000-01-U